DEPARTMENT OF TRANSPORTATION

Federal Highway Administration

Environmental Impact Statement; Oakland and Genesee Counties, MI

AGENCY: Federal Highway Administration (FHWA), DOT.

ACTION: Notice of intent.

SUMMARY: The FHWA is issuing this notice to advise the public that an environmental impact statement (EIS) will be prepared for a proposed highway project in Oakland and Genesee counties, Michigan. A Section 4(f) Statement will be prepared in coordination with the EIS.

FOR FURTHER INFORMATION CONTACT: James A. Kirschensteiner, Engineer, Environmental Programs & Field Operations, Federal Highway Administration, 315 West Allegan St., Room 207, Lansing, Michigan 48933, Telephone (517) 702-1835, Fax: 377-1804; email: james.kirschensteiner@fhwa.dot.gov.

SUPPLEMENTARY INFORMATION: The FHWA, in cooperation with the Michigan Department of Transportation, will prepare an environmental impact statement (EIS) on a proposal to improve M-15 in Oakland and Genesee counties, Michigan. The proposed improvement will involve the reconstruction of existing M-15 between I-75 and I-69, a distance of approximately 20 miles. Due to the presence of cultural resources, a Section 4(f) Statement will be developed in conjunction with the EIS.

Improvements to the corridor are considered necessary to provide for projected traffic demand. Alternatives under consideration include: (1) Taking no action, (2) Low-Cost Improvements/Transportation Systems Management, (3) New Alignments, and (4) M-15 Reconstruction. Incorporated into and studied with the various build alternatives will be design variation of typical sections and alignment.

Letters describing the proposed action and soliciting comments have been sent to appropriate federal, state, and local agencies, and to private organizations and citizens who have previously expressed or are known to have an interest in this proposal. A series of public meetings have been held; June 7 and 8, 2000, August 24, 2000, October 25, 2000, November 15, 2000, January 24, 2001, and April 3 and 4, 2001. A public hearing will be held after appropriate public notice is given of the time and place of the hearing. The draft EIS will be available for public and agency review and comment prior to the public hearing. Formal scoping meetings were held September 20, 2000, in Lansing for agency officials and in the corridor for local stakeholders.

To ensure that the full range of issues related to this proposed action are addressed and all significant issues identified, comments, and suggestions are invited from all interested parties. Comments or questions concerning this proposed action and the EIS should be directed to the FHWA at the address provided above.

(Catalog of Federal Domestic Assistance Program Number 20.205, Highway Planning and Construction. The regulations implementing Executive Order 12372 regarding intergovernmental consultation of Federal programs and activities apply to this program)

Issued on: June 14, 2001.
James J. Steele,
Division Administrator, Lansing, Michigan.

[FR Doc. 01-15833 Filed 6-22-01; 8:45 am]

BILLING CODE 4910-22-M